DEPARTMENT OF STATE

[Public Notice 3579]

Bureau of African Affairs; AF/PD Professional Internship Program

Introduction

The United States Department of State announces an open competition for an assistance award. Nongovernmental organizations may apply to design and manage a multi-faceted program that consists of the following: (1) Azikiwe Professional Fellowships; and, (2) the COMESA (Common Market of East and Southern Africa) Professional Internship Program.

I. Azikiwe Professional Fellows

The Azikiwe Professional Fellowship Program seeks to establish linkages between young Nigerians and their American counterparts in various sectors. The program is divided into two groups: the “Digital Divide Internships” and “Gatekeepers for the Free Flow of Information.”

• Digital Divide Internships will consist of six five-week internships for leaders who will play key roles in bringing Internet connectivity to Nigerian government offices and universities. They would spend one week of orientation at a university before going on to month-long internships at university departments or local and state government offices.

• Gatekeepers for the Free Flow of Information will consist of six five-week internships for library professionals involved in overall management and policy-making in key governmental and private libraries and journalists interested in enhancing their professional skills. The program would demonstrate the crucial role of international technology in modern libraries, train the fellows in the use of the Internet and creation of web pages, and demonstrate the best ways to integrate these technologies into Nigerian libraries. Journalistic Interns would focus on improving professional skills (freedom of press, speech), responsible reporting, and constitutional issues. In both cases, Interns would have a two-week orientation program in Washington (at DoS, Library of Congress, Congressional Research Service, media and newspapers, newspaper libraries, universities and communication organizations, etc.). Following the Washington program, the Interns would be placed for three-weeks in an institution with similar interests to their home organization or media or newspapers.

Both sets of professional fellows would be required to develop a plan of short, medium, and long-term goals for their respective institutions before returning home.

II. COMESA Professional Internship Program

The COMESA program will consist of approximately 10-12 internships lasting from 8-12 weeks with corporations, universities, or trade organizations (particularly those involved in NAFTA, CBI, or WTO issues). The program will stress the development of strong management, administrative, finance, negotiation, and organizational skills among select members of the COMESA Secretariat. In addition, the Interns will develop strategies and techniques focused on learning and developing management skills appropriate for a sub-regional organization. The Program will seek to assist the COMESA Secretariat in enhancing its capacity to handle its burgeoning role as a regional organization focused on economic and trade issues. The AF/PD Professional Internship Program seeks to enhance the professional skills and abilities of the participants by developing the Interns' organizational, Internet, and managerial skills. All Interns will be allotted two days in Washington, DC at the end of their internship to discuss and review the program with AF/PD staff and colleagues. An additional multiplier effect of the program will be to develop future linkages between American and African universities and institutions.

A cooperative agreement will be subject to the availability of funds.

The contract agency will be expected to work closely with AF/PD and Public Affairs Sections of U.S. Embassies in Africa in selecting participants, and in developing and implementing this program.

Authority

22 U.S.C.-2452(a)(2).

Eligible Applicants

Eligible applicants include all nongovernmental institutions, private organizations, and commercial entities.

Availability of Funds

The funding level for this Cooperative Agreement shall be no higher than $374,500. The funding is available for one calendar year which begins at the time the Cooperative Agreement is signed.

Continuing awards within the project period will be made on the basis of satisfactory progress and the availability of funds.

Purpose

Primary objectives for the AF/PD Intern Program are to develop professional skills of a variety of individuals in the areas of Internet connectivity, library science, journalism, business and trade development, and the management and administration of selected sub-regional organizations. Moreover, the program is designed to enhance linkages between American institutions, business, media, entrepreneurs, and universities, with African counterparts working in specific professions.

Reporting Requirement

Reporting requirements will be developed in consultation with AF/PD.

Evaluation Criteria

Technically eligible applicants will be competitively reviewed under 9 criteria. The criteria are: (1) Cost effectiveness and cost sharing; (2) Program development, planning, and the ability to achieve objectives and time-lines; (3) Follow-up—Ability to conduct Africa-wide follow-up activities on a minimum biannual basis (4) Institutional capacity; (5) Ability to objectively evaluate program achievements, and provide a final program report; (6) “Multiplier Effect/Impact”—strengthening of bilateral and multilateral linkages and understanding; (7) Ability to coordinate work with AF/PD and Public Affairs Sections at U.S. Embassies; (8) Support for Diversity and gender balance; and (9) Cultural Sensitivity based on country norms.

Other Requirements

Paperwork Reduction Act

Projects that involve the collection of information from 10 or more individuals and funded by the cooperative agreement will be subject to review by the Office of Management and Budget (OMB) under the Paperwork Reduction Act.

Application Submission and Deadline

The original and ten (10) copies of the application (Standard Form 424) must be submitted to the U.S. Department of State, Ms. Joanna Pisciotta Snearly, Grant Specialist, A/LM/AQM/IP, State Annex #44, Room M-22, 301 4th Street SW., Washington, DC 20547 on or before March 26, 2001.

Where to Obtain Additional Information

A detailed program description and application package may be obtained from Ms. Joanna Pisciotta Snearly, Grant Specialist, U.S. Department of State, A/LM/AQM/IP, State Annex #44, Room M-22, 301 4th Street SW., Washington, DC 20547, telephone (202) 260-6549, fax (202) 205-5466 email jsnearly@pd.state.gov. Please refer to the “AF/PD Professional Internship Program” when requesting information or sending an application.

Dated: February 12, 2001.
William C. Zehnder,
Grant Award Officer, A/LM/AQM/IP, Department of State.

[FR Doc. 01-4521 Filed 2-22-01; 8:45 am]

BILLING CODE 4710-26-U